DEPARTMENT OF STATE

[Public Notice: 9734]

Executive Order 13224 Designation of Jund al-Aqsa, aka JAA, aka Jund Al-Aqsa, aka The Soldiers of Aqsa, aka Soldiers of al-Aqsa, aka Sarayat al-Quds as a Specially Designated Global Terrorist

Acting under the authority of and in accordance with section 1(b) of Executive Order 13224 of September 23, 2001, as amended by Executive Order 13268 of July 2, 2002, and Executive Order 13284 of January 23, 2003, I hereby determine that the entity known as Jund al-Aqsa, also known as JAA, also known as Jund Al-Aqsa, also known as The Soldiers of Aqsa, also known as Soldiers of al-Aqsa, also known as Sarayat al-Quds, committed, or poses a significant risk of committing, acts of terrorism that threaten the security of U.S. nationals or the national security, foreign policy, or economy of the United States.

Consistent with the determination in section 10 of Executive Order 13224 that prior notice to persons determined to be subject to the Order who might have a constitutional presence in the United States would render ineffectual the blocking and other measures authorized in the Order because of the ability to transfer funds instantaneously, I determine that no prior notice needs to be provided to any person subject to this determination who might have a constitutional presence in the United States, because to do so would render ineffectual the measures authorized in the Order.

This notice shall be published in the Federal Register.

Dated: September 16, 2016.
John F. Kerry,
Secretary of State.

[FR Doc. 2016-23177 Filed 9-23-16; 8:45 am]

BILLING CODE 4710-AD-P